DEPARTMENT OF HOUSING AND URBAN DEVELOPMENT

[Docket No. FR-4769-N-02]

Notice of Availability of HUD Information Quality Guidelines: Extension of Public Comment Period

AGENCY: Office of the Assistant Secretary for Administration, HUD.

ACTION: Notice.

SUMMARY: Through this notice, HUD is extending the public comment period on its draft guidelines for ensuring and maximizing the quality, objectivity, utility, and integrity of information disseminated to the public by HUD. These guidelines, referred to as HUD's “Information Quality Guidelines,” are available for review and comment on HUD's website at www.hud.gov.

DATES: Comments Due Date: July 17, 2002.

ADDRESSES: Interested persons are invited to submit comments regarding this notice to the Rules Docket Clerk, Office of General Counsel, Room 10276, Department of Housing and Urban Development, 451 Seventh Street, SW., Washington, DC 20410-0500. Communications should refer to the above docket number and title. A copy of each communication submitted will be available for public inspection and copying between 7:30 a.m. and 5:30 p.m. weekdays at the above address. Comments may be submitted electronically to HUD through internet email by sending to the following address: Quality_Info@hud.gov.

FOR FURTHER INFORMATION CONTACT: Barbara Dorf, Director, Office of Departmental Grants Management and Oversight, Office of Administration, Department of Housing and Urban Development, Room 3146, 451 Seventh Street, SW., Washington, DC 20410-0500; telephone (202) 708-0667 (this is not a toll-free number). Hearing- or speech-impaired individuals may access this number via TTY by calling the toll-free Federal Information Relay Service at (800) 877-8399.

SUPPLEMENTARY INFORMATION: By notice published on May 30, 2002 (67 FR 38751), HUD advised the public that section 515 of the Treasury and General Government Appropriations Act for Fiscal Year 2001 (Public Law 106-554) directed the Office of Management and Budget (OMB) to issue government-wide guidelines that “provide policy and procedural guidance to Federal agencies for ensuring and maximizing the quality, objectivity, utility and integrity of information (including statistical information) disseminated by Federal agencies.” Within one year after OMB issues its guidelines, agencies must issue their own guidelines that will describe internal mechanisms by which agencies will ensure that their information meets the standards of quality, objectivity, utility and integrity. The mechanism also must allow affected persons to seek and obtain correction of information maintained and disseminated by the agency that does not comply with the guidelines.

OMB issued its final guidelines on September 28, 2001 (66 FR 49718), but requested additional comment on one component of the OMB guidelines. The OMB guidelines addressing additional public comment were published on January 3, 2002 (67 FR 369), and republished on February 22, 2002 (67 FR 6452). In accordance with the statute, agencies must issue their final guidelines by October 1, 2002. The agencies' draft guidelines need not be published in the Federal Register, but agencies should provide notification in the Federal Register that the draft guidelines are available on agencies' websites.

HUD announced the availability of its draft guidelines for review on HUD's website by Federal Register notice published on May 30, 2002 (67 FR 37851). The May 30, 2002, notice solicited public comments through July 1, 2002.

This notice published in today's Federal Register advises the public that HUD is extending the public comment period to July 17, 2002.

Dated: June 10, 2002.
Vickers B. Meadows,
Assistant Secretary for Administration.

[FR Doc. 02-15119 Filed 6-14-02; 8:45 am]

BILLING CODE 4210-01-P